DEPARTMENT OF COMMERCE

International Trade Administration

[A-427-818]

Low Enriched Uranium From France: Extension of the Time Limit for the Preliminary Results of Antidumping Duty Administrative Review

AGENCY: Import Administration, International Trade Administration, Department of Commerce.

EFFECTIVE DATE: October 27, 2003.

FOR FURTHER INFORMATION CONTACT: Vicki Schepker or Carol Henninger at (202) 482-1756 or (202) 482-3003, respectively; Office of AD/CVD Enforcement 5, Import Administration, International Trade Administration, U.S. Department of Commerce, 14th Street and Constitution Avenue, NW, Washington, DC 20230.

Time Limits

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

Eurodif S.A. (Eurodif), a French producer of subject merchandise, and United States Enrichment Corporation and USEC, Inc., a domestic producer of subject merchandise, requested an administrative review of the antidumping duty order on low enriched uranium from France on February 3, 2003, and February 28, 2003, respectively. On March 25, 2003, the Department published a notice of initiation of the administrative review, covering the period July 13, 2001, through January 31, 2003, (Initiation of Antidumping and Countervailing Duty Administrative Reviews and Requests for Revocation in Part, 68 FR 14394). The preliminary results are currently due no later than October 31, 2003.

Extension of Time Limit for Preliminary Results of Review

We determine that it is not practicable to complete the preliminary results of this review within the original time limit due to the complex issues that have been raised. Specifically, the Department has issued three supplemental sales questionnaires and delayed verification in order to obtain additional explanation regarding the respondent's entries during the POR. In addition, the Department is investigating major inputs the respondent purchased from affiliated parties and has issued two supplemental cost questionnaires. Therefore, the Department is extending the time limit for completion of the preliminary results until no later than December 18, 2003. We intend to issue the final results no later than 120 days after publication of the preliminary results notice.

This extension is in accordance with section 751(a)(3)(A) of the Act.

Dated: October 21, 2003.
Holly A. Kuga,
Acting Deputy Assistant Secretary for AD/CVD Enforcement II.

[FR Doc. 03-27043 Filed 10-24-03; 8:45 am]

BILLING CODE 3510-DS-P